DEPARTMENT OF THE TREASURY

Fiscal Service

31 CFR Part 210

RIN 1510-AA81

Federal Government Participation in the Automated Clearing House; Correction

AGENCY: Financial Management Service, Fiscal Service, Treasury.

ACTION: Interim Rule with request for comment; correction.

SUMMARY: The Financial Management Service published in the Federal Register on Friday, April 7, 2000 (65 FR 18866) a rule concerning the use of the Automated Clearing House (ACH) system by Federal agencies. This document corrects an inadvertent error in amendatory instruction 4 of that rule.

DATES: This correction is effective April 7, 2000.

FOR FURTHER INFORMATION CONTACT: Walt Henderson, Senior Financial Program Specialist, at (202) 874-6705 or walt.henderson@fms.treas.gov; Natalie H. Diana at (202) 874-6590 or natalie.diana@fms.treas.gov; Adam Martin, Financial Program Specialist, at (202) 874-6881 or adam.martin@fms.treas.gov; Cynthia L. Johnson, Director, Cash Management Policy and Planning Division, at (202) 874-6590 or cindy.johnson@fms.treas.gov; or Margaret Marquette, Deputy Chief Counsel, at (202) 874-6681.

SUPPLEMENTARY INFORMATION:

Background

The interim regulations that are the subject of this correction were published in the Federal Register on Friday April 7, 2000 (65 FR 18866). Amendatory instruction 4 of those regulations inadvertently referred to § 210.5 rather than § 210.5(a). This correction makes clear that § 210.5(b) remains unchanged from the rule as published on April 9, 1999 (64 FR 17472).

In rule FR Doc. 00-8626 published on April 7, 2000 (65 FR 18866) make the following correction:

PART 210—[CORRECTED]

§ 210.5 [Corrected]

1. On page 18869, column 3, correct amendatory instruction 4 to read:

4. Revise § 210.5(a) to read as follows:

Dated: May 17, 2000.
Bettsy H. Lane,
Assistant Commissioner-Federal Finance.

[FR Doc. 00-12988 Filed 5-23-00; 8:45 am]

BILLING CODE 4810-35-M